COMMODITY FUTURES TRADING COMMISSION

Notice of Sunshine Act Meeting

Agency Holding the Meeting: Commodity Futures Trading Commission.

Sunshine Act Meetings

TIME AND DATE: 9 a.m., Tuesday April 22, 2008.

PLACE: 1155 21st St., NW., Washington, DC, 9th Floor Commission Conference Room.

STATUS: Open.

MATTERS TO BE CONSIDERED: Public meeting to discuss recent events affecting the agricultural commodity markets.

FOR FURTHER INFORMATION CONTACT: Sauntia S. Warfield, 202-418-5084.

David A. Stawick,
Secretary of the Commission.

[FR Doc. 08-1080 Filed 3-25-08; 1:23 pm]

BILLING CODE 6351-01-P